DEPARTMENT OF HEALTH AND HUMAN SERVICES

Centers for Disease Control and Prevention

Guide to Community Preventive Services Task Force Meeting; Notice

Office of the Director, Centers for Disease Control and Prevention (CDC), announces the following meeting:

Name: Guide to Community Preventive Services (GCPS) Task

Force Meeting.

Times and Dates: 9 a.m.-6 p.m., February 7, 2001. 9 a.m.-4 p.m., February 8, 2001.

Place: The Westin Peachtree Plaza, 210 Peachtree Street, Atlanta, Georgia 30303-1745, telephone (404) 659-1400.

Status: Open to the public, limited only by the space available. The meeting room accommodates approximately 40 people.

Purpose: The mission of the Task Force is to develop and publish a Guide to Community Preventive Services, which is based on the best available scientific evidence and current expertise regarding essential public health services and what works in the delivery of those services.

Matters To Be Discussed: Agenda items include: presentation of recommendations for approval for the following chapters: Cancer, Motor Vehicle Occupant Injury, Physical Activity, and Sociocultural Environment; presentation of the dissemination/implementation/evaluation plan, discussions on the expansion and update of the Vaccine Preventable Disease Chapter; and general updates on the following information: Methods, Clinical Guide, and Alcohol, Diabetes, Mental Health, Sexual Behavior, and Violence Prevention Chapters.

Agenda items are subject to change as priorities dictate.

CONTACT PERSON FOR ADDITIONAL INFORMATION: Stephanie Zaza, M.D., M.P.H., Chief, Community Guide Branch, Division of Prevention Research and Analytic Methods, Epidemiology Program Office, CDC, 4770 Buford Highway, M/S K-73, Atlanta, Georgia 30341, telephone 770/488-8189.

Persons interested in reserving a space for this meeting should call 770/488-8189 by close of business on February 6, 2001.

The Director, Management Analysis and Services Office, has been delegated the authority to sign Federal Register notices pertaining to announcements of meetings and other committee management activities, for both the Centers for Disease Control and Prevention and the Agency for Toxic Substances and Disease Registry.

Dated: January 31, 2001.
Carolyn J. Russell,
Director, Management Analysis and Services Office, Centers for Disease Control and Prevention.

[FR Doc. 01-3022 Filed 2-5-01; 8:45am]

BILLING CODE 4163-18-P